ENVIRONMENTAL PROTECTION AGENCY

[Petition IV-2003-1; FRL-7842-2]

Clean Air Act Operating Permit Program; Petition for Objection to State Operating Permit for Hercules, Inc.; Brunswick (Glynn County), GA

AGENCY: Environmental Protection Agency (EPA).

ACTION: Notice of final order on petition to object to a state operating permit.

SUMMARY: Pursuant to section 505(b)(2) of the Clean Air Act (the Act) and 40 CFR 70.8(d), the EPA Administrator signed an order, dated November 10, 2004, denying a petition to object to a state operating permit issued by the Georgia Environmental Protection Division (EPD) to Hercules, Inc. (Hercules) located in Brunswick, Glynn County, Georgia. This order constitutes final action on the petition submitted by the Glynn Environmental Coalition and the Center for a Sustainable Coast (Petitioners). Pursuant to section 505(b)(2) of the Act, any person may seek judicial review in the United States Court of Appeals for the appropriate circuit within 60 days of this notice under section 307 of the Act.

ADDRESSES: Copies of the final order, the petition, and all pertinent information relating thereto are on file at the following location: EPA Region 4, Air, Pesticides and Toxics Management Division, 61 Forsyth Street SW., Atlanta, Georgia 30303-8960. The final order is also available electronically at the following address: http://www.epa.gov/region7/programs/artd/air/title5/petitiondb/petitions/ hercules_decision2003.pdf.

FOR FURTHER INFORMATION CONTACT: Art Hofmeister, Air Permits Section, EPA Region 4, at (404) 562-9115 or hofmeister.art@epa.gov.

SUPPLEMENTARY INFORMATION: The Act affords EPA a 45-day period to review and, as appropriate, to object to operating permits proposed by state permitting authorities under title V of the Act, 42 U.S.C. 7661-7661f. Section 505(b)(2) of the Act and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

On January 23, 2003, the Administrator received a petition requesting that EPA object to a state title V operating permit issued by EPD to Hercules. The Petitioners maintain that the Hercules permit is inconsistent with the Act because: (1) The permit fails to include all applicable requirements, specifically Georgia Rule 391-3-1-.02(2)(a)1. and (2) the permit fails to assure compliance with said rule.

On November 10, 2004, the Administrator issued an order denying this petition. The order explains the reasons behind EPA's conclusion that the Petitioners failed to demonstrate that the Hercules permit is not in compliance with the requirements of the Act on the grounds raised.

Dated: November 18, 2004.
J.I. Palmer, Jr.,
Regional Administrator, Region 4.

[FR Doc. 04-26080 Filed 11-23-04; 8:45 am]

BILLING CODE 6560-50-P